DEPARTMENT OF HOUSING AND URBAN DEVELOPMENT

[Docket No. FR-4739-N-42]

Notice of Proposed Information Collection: Comment Request; Request for Proposals—Contract Administrators for Project-Based Section 8 Housing Assistant Payments (HAP) Contracts

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: November 19, 2002.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410.

FOR FURTHER INFORMATION CONTACT: Deborah Lear, Office of Housing Assistance Contract Administration Oversight, Department of Housing and Urban Development, 451 7th Street SW., Washington, DC 20410, telephone (202) 708-2866, extension 2768 (this is not a toll free number) for other information or copies of the proposed form.

SUPPLEMENTARY INFORMATION: The Department is submitting the proposed information collection to OMB for review, as required by the Paperwork Reduction Act of 1995 (44 U.S.C. Chapter 35, as amended).;

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information of those who are to respond; including the use of appropriate automated collection techniques or other forms of information technology, e.g., permitting electronic submission of responses.

This Notice also lists the following information:

Title of Proposal: Request for Proposal—Contract Administrators for Project-Based Section 8 Housing Assistance Payments (HAP) Contracts.

OMB Control Number, if applicable: 2502-0528.

Description of the need for the information and proposed use: This information collection is essential for the continued outsourcing of third party contracts for performance based Section 8 Contract Administration. Contractors will be responsible for overseeing over 20,000 Section 8 contracts. This Section 8 contract portfolio represents an investment of over $4 billion in Section 8 funds and administration, and oversight of these contracts will support the Department's mission of providing safe, decent, sanitary, and affordable housing on a nationwide basis.

Agency form numbers, if applicable: None.

Estimation of the total numbers of hours needed to prepare the information collection including number of respondents, frequency of response, and hours of response: The estimated total number of hours needed to prepare the information collection is 3,660; the number of respondents is 57 generating approximately 862 annual responses; the frequency of response is monthly and annually; and the estimated time needed to prepare the response varies from 5 hours to 40 hours.

Status of the proposed information collection: Extension of a currently approved collection.

Authority: The Paperwork Reduction Act of 1995, 44 U.S.C., Chapter 35, as amended.

Dated: September 17, 2002.
John C. Weicher,
Assistant Secretary for Housing-Federal Housing Commissioner.

[FR Doc. 02-23933 Filed 9-19-02; 8:45 am]

BILLING CODE 4210-27-M